DEPARTMENT OF HEALTH AND HUMAN SERVICES

42 CFR Part 70

[Docket No. CDC-2012-0016]

RIN 0920-AA22

Control of Communicable Diseases: Interstate; Scope and Definitions

AGENCY: Centers for Disease Control and Prevention (HHS/CDC), Department of Health and Human Services (HHS).

ACTION: Notice of proposed rulemaking; withdrawal.

SUMMARY: The Centers for Disease Control and Prevention (CDC) within the Department of Health and Human Services (HHS) is withdrawing a previously published Notice of Proposed Rulemaking (NPRM) that solicited public comment on updates to the Scope and Definitions for its regulations.

DATES: The Notice of Proposed Rulemaking published at 77 FR 75936, December 26, 2012, is withdrawn, effective immediately.

FOR FURTHER INFORMATION CONTACT: For questions concerning this notice: Ashley A. Marrone, JD, Centers for Disease Control and Prevention, 1600 Clifton Road NE., Mailstop E-03, Atlanta, Georgia 30333; telephone 404-498-1600.

SUPPLEMENTARY INFORMATION: On December 26, 2012, HHS/CDC published a Notice of Proposed Rulemaking (NPRM) amending 42 CFR part 70 to update the Scope and Definitions to reflect modern terminology and plain language used by private industry and public health partners. (77 FR 75936). On the same date, HHS/CDC simultaneously published a companion direct final rule that proposed identical updates in this Federal Register because it believed that the proposed revisions were non-controversial and unlikely to generate significant adverse comment. (77 FR 75880). In the NPRM, HHS/CDC indicated that if we did not receive any significant adverse comments on the direct final rule by January 25, 2013, we would publish a document in the Federal Register withdrawing this notice of proposed rulemaking and confirming the effective date of the direct final rule within 30 days after the comment period on the direct final rule ends. HHS/CDC received one public comment that was not a significant, adverse comment, but rather was in support of the companion NPRM. Because HHS/CDC did not receive any significant adverse comments to the NPRM within the specified comment period, we hereby withdraw this NPRM from rulemaking.

Dated: February 13, 2013.
Kathleen Sebelius,
Secretary, Department of Health and Human Services.

[FR Doc. 2013-04139 Filed 2-22-13; 8:45 am]

BILLING CODE 4163-18-P